DEPARTMENT OF JUSTICE

Antitrust Division

Notice Pursuant to the National Cooperative Research and Production Act of 1993—ManyCore Collaboration Project

Notice is hereby given that, on October 23, 2006, pursuant to Section 6(a) of the National Cooperative Research and Production Act of 1993, 15 U.S.C. 4301 et seq. (“the Act”), the ManyCore Collaboration Project (“ManyCore Collaboration”) has filed written notifications simultaneously with the Attorney General and the Federal Trade Commission disclosing (1) the identities of the parties to the venture and (2) the nature and objectives of the venture. The notifications were filed for the purpose of invoking the Act's provisions limiting the recovery of antitrust plaintiffs to actual damages under specified circumstances.

Pursuant to Section 6(b) of the Act, the identities of the parties to the venture are: Intel Corporation, Santa Clara, CA; and Microsoft Corporation, Redmond, WA. The general area of the ManyCore Collaboration's planned activity is the creation of new technologies in the area of ManyCore memory technology. Through the venture, the parties will work to develop hardware and 36+software functional elements that better enable the effective use of parallelism.

Patricia A. Brink,
Deputy Director of Operations, Antitrust Division.

[FR Doc. 07-315 Filed 1-24-07; 8:45 am]

BILLING CODE 4410-11-M